DEPARTMENT OF HOMELAND SECURITY

Coast Guard

[USCG-2005-20338]

Collection of Information Under Review by Office of Management and Budget (OMB): OMB Control Numbers: 1625-0067 and 1625-0068

AGENCY: Coast Guard, DHS.

ACTION: Request for comments.

SUMMARY: In compliance with the Paperwork Reduction Act of 1995, the Coast Guard intends to seek the approval of OMB for the renewal of two Information Collection Requests (ICRs). The ICRs comprise (1) 1625-0067, Claims Under the Oil Pollution Act of 1990, and (2) 1625-0068 State Access to The Oil Spill Liability Trust Fund For Removal Costs Under the Oil Pollution Act of 1990. Before submitting the ICRs to OMB, the Coast Guard is inviting comments on them as described below.

DATES: Comments must reach the Coast Guard on or before April 19, 2005.

ADDRESSES: To make sure that your comments and related material do not enter the docket [USCG-2005-20338] more than once, please submit them by only one of the following means:

(1) By mail to the Docket Management Facility, U.S. Department of Transportation (DOT), Room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, Room 6106 (Attn: Ms Barbara Davis), 2100 Second Street SW., Washington, DC 20593-0001. The telephone number is 202-267-2326.

FOR FURTHER INFORMATION CONTACT: Ms. Barbara Davis, Office of Information Management, telephone 202-267-2326, fax 202-267-4814 for questions on these documents; or Ms. Andrea M. Jenkins, Program Manager, Docket Operations, 202-366-0271, for questions on the docket.

SUPPLEMENTARY INFORMATION: Public participation and request for comments. We encourage you to participate in this request for comment by submitting comments and related materials. We will post all comments received, without change, to http://dms.dot.gov, and they will include any personal information you have provided. We have an agreement with DOT to use the Docket Management Facility. Please see the paragraph on DOT's “Privacy Act Policy” below.

Submitting comments: If you submit a comment, please include your name and address, identify the docket number for this request for comment [USCG-2005-20338], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Requests

1. Title: Claims Under the Oil Pollution Act of 1990.

OMB Control Number: 1625-0067.

Summary: The Coast Guard will use the information collected under this information collection request to (1) determine whether oil-spill-related claims submitted to the Oil Spill Liability Trust Fund are compensable and, (2) if they are, to ensure proper compensation for the claimant.

Need: If the requested information is not collected, the Coast Guard will be unable to comply with the provisions of OPA [33 U.S.C. 2708, 2713 and 2714] to ensure the making of fair and reasonable payments to claimants of fully substantiated claims and to protect the interest of the Federal Government.

Respondents: Claimants and responsible parties of oil spills.

Frequency: On occasion.

Burden Estimate: The estimated burden has been increased from 13,722 hours to 14,800 hours a year.

2. Title: State Access to the Oil Spill Liability Trust Fund for Removal Costs Under the Oil Pollution Act of 1990.

OMB Control Number: 1625-0068.

Summary: The Coast Guard will use information provided by the State to the Coast Guard National Pollution Funds Center to determine whether expenditures submitted by the state to the Oil Spill Liability Trust Fund are compensable and, if they are, to ensure payment of the correct amount of funding from the Fund.

Need: Under the authority of 33 U.S.C. 2712, Coast Guard has promulgated regulations detailing the manner in which to obligate the Fund. To ensure fair and reasonable payments to States and to protect the interests of the Federal Government, States must fully substantiate all expenditures that they submit and must follow the procedures for presentation of those expenditures to the Fund.

Respondents: State Governments.

Frequency: On occasion.

Burden Estimate: The estimated burden remains the same, 3 hours a year.

Dated: February 11, 2005.
Nathaniel S. Heiner,
Acting, Assistant Commandant for Command, Control, Communications, Computers and, Information Technology.

[FR Doc. 05-3118 Filed 2-17-05; 8:45 am]

BILLING CODE 4910-15-P